FEDERAL RESERVE SYSTEM

Formations of, Acquisitions by, and Mergers of Bank Holding Companies; Correction

This notice corrects a notice (FR Doc.02-10242) published on page 20790 of the issue for Friday, April 26, 2002.

Under the Federal Reserve Bank of Kansas City heading, the entry for Brooke Holdings, Inc., Brooke Corporation, Inc., and Brooke Bancshares, Inc., all of Overland Park, Kansas, is revised to read as follows:

Federal Reserve Bank of Kansas City (Susan Zubradt, Assistant Vice President) 925 Grand Avenue, Kansas City, Missouri 64198-0001:

1. Brooke Holdings, Inc., Brooke Corporation, Inc., and Brooke Bancshares, Inc., all of Overland Park, Kansas; to become bank holding companies by acquiring 100 percent of the voting shares of Centerville State Bank, Centerville, Kansas.

Comments on this application must be received by May 20, 2002.

Board of Governors of the Federal Reserve System, May 1, 2002.
Robert deV. Frierson,
Deputy Secretary of the Board.

[FR Doc. 02-11239 Filed 5-6-02; 8:45 am]

BILLING CODE 6210-01-S